ENVIRONMENTAL PROTECTION AGENCY

[ER-FRL-8585-7]

Environmental Impacts Statements; Notice of Availability

Responsible Agency: Office of Federal Activities, General Information (202) 564-1399 or http://www.epa.gov/compliance/nepa/.

Weekly Receipt of Environmental Impact Statements

Filed 09/08/2008 through 09/12/2008.

Pursuant to 40 CFR 1506.9.

EIS No. 20080352, Draft Supplement, COE, 00, White River Minimum Flood Study, To Provide an Improved Minimum Flow for the Benefit of the Tail Water Fishery, White River Basin Lakes: Beaver, Table Rock, and Bull Shoal Lakes on the White River; Norfork Lake on the North Fork White River; and Greens Ferry Lake on the Little Red River, AR and MO, Comment Period Ends: 11/03/2008, Contact: Mike Biggs 501-324-7342.

EIS No. 20080353, Draft Supplement, AFS, 00, Gypsy Moth Management in the United States: A Cooperative Approach, Proposing New Treatments that were not Available when the 1995 EIS was written, US, Comment Period Ends: 11/03/2008, Contact: William Oldland 304-285-1585.

EIS No. 20080354, Final EIS, NPS, VA, Manassas National Battlefield Park General Management Plan, Implementation, Fairfax and Prince William Counties, VA, Wait Period Ends: 10/20/2008, Contact: Bill Arguto 202-619-7277.

EIS No. 20080355, Final EIS, AFS, OR, Ashland Forest Resiliency Project, To Recover from Large-Scale High-Severity Wild Land Fire, Upper Bear Analysis Area, Ashland Ranger District, Rogue River-Siskiyou National Forest, Jackson County, OR, Wait Period Ends: 10/20/2008, Contact: Ken Grigsby 541-618-2126.

EIS No. 20080356, Draft Supplement, AFS, CA, Kings River Project, New Information regarding Pacific Fisher (Martes pennanti), Proposal to Restore Historical Pre-1850 Forest Conditions, Implementation, High Sierra Ranger District, Sierra National Forest, Fresno County, CA, Comment Period Ends: 11/03/2008, Contact: Ray Porter 559-855-5355.

EIS No. 20080357, Draft EIS, FRC, CA, Big Creek Hydro Project (FERC Nos. 67, 120, 2085, and 2175) Proposes to Relicenses, Big Creek Nos. 2A, 8 and Eastwood—FERC No. 67; Big Creek Nos. 1 and 2—FERC No. 2175; Mammoth Pool—FERC No. 2085 and Big Creek No. 3 FERC No. 120, Frenso and Madera Counties, CA, Comment Period Ends: 11/03/2008, Contact: Patricia Schaub 1-866-208-3372.

EIS No. 20080358, Final EIS, SFW, TX, Williamson County Regional Habitat Conservation Plan, Application for an Incidental Take Permit, Williamson County, TX, Wait Period Ends: 10/20/2008, Contact: Bill Seawell 512-490-0057.

EIS No. 20080359, Final EIS, BIA, WY, Riverton Dome Coal Bed Natural Gas (CBNG) and Conventional Gas Development Project, Construction of Well Pads, Roads, Pipelines, and Production Facilities, Wind River Indian Reservation (WRIR), Fremont County, WY, Wait Period Ends: 10/20/2008, Contact: Ray Nation 307-332-3718.

EIS No. 20080360, Draft EIS, NOA, 00, Amendment 1 to the 2006 Consolidated Highly Migratory Species (HMS) Fishery Management Plan, (FMP), Updating and Revising Essential Fish Habitat (EFH) for Atlantic Highly Migratory Species (HMS) consider additional Habitat Area of Particular Concern (HAPC) and Analyze Fishing Impacts, Chesapeake Bay, MD, Delaware Bay, DE, Great Bay, NJ and Outer Bank off NC, Comment Period Ends: 11/18/2008, Contact: Margo Schulze-Haugen 301-713-2347.

EIS No. 20080361, Draft Supplement, USA, HI, Makua Military Reservation (MMR) Project, Proposed Military Training Activities, To Conduct the Necessary Type, Level, Duration, and Intensity of Live-Fire and other Military Training Activities, in Particular Company-Level Combined-Arms, Live-Fire Exercises (CALFEX), 25th Infantry Division (Light) and US Army, HI, Comment Period Ends: 11/03/2008, Contact: Dennis Drake 808-656-3152.

EIS No. 20080362, Final EIS, AFS, CO, Durango Mountain Resort Improvement Plan, Special-Use-Permits, Implementation, San Juan National Forest, La Plata and San Juan Counties, CO, Wait Period Ends: 10/20/2008, Contact: Richard Speegle 970-375-3310.

EIS No. 20080363, Final EIS, AFS, CA, Modoc National Forest Noxious Weed Treatment Project, Proposes to Implement a Control and Eradication Project, Lassen, Modoc and Siskiyou Counties, CA, Wait Period Ends: 10/20/2008, Contact: Robert Haggard 530-233-8840.

Amended Notices

EIS No. 20080296, Final EIS, FHW, TX, Grand Parkway (State Highway 99) Selected the Preferred Alternative Alignment, Segment F-2 from SH 249 to IH 45, Right-of-Way Permit and U.S. Army COE Section 404 Permit, Harris County, TX, Wait Period Ends: 11/07/2008, Contact: Justin Ham 512-536-5963.

Revision to FR Notice Published 08/08/2008. Extending Wait Period from 09/17/2008 to 11/07/2008.

EIS No. 20080322, Final EIS, NRC, GA, Vogtle Electric Generating Plant Site, Early Site Permit (ESP), for the Construction and Operation of a new Nuclear Power Generating Facility Application Approval, Burke County, GA NUREG 1872, Wait Period Ends: 10/20/2008, Contact: Mark D. Notich 301-415-3053.

Revision to FR Notice Published 08/22/2008: Due to Agency submitting Errata to the Final EIS, the Wait Period will change from 9/22/2008 to 10/20/2008.

Dated: September 16, 2008.
Ken Mittelholtz,
Environmental Protection Specialist, Office of Federal Activities.

[FR Doc. E8-21956 Filed 9-18-08; 8:45 am]

BILLING CODE 6560-50-P